ENVIRONMENTAL PROTECTION AGENCY

40 CFR Part 52

[EPA-R09-OAR-2020-0573; FRL-9453-02-R9]

Air Plan Approval; California; Mojave Desert Air Quality Management District, Placer County Air Pollution Control District; Correcting Amendment

AGENCY: Environmental Protection Agency (EPA).

ACTION: Final rule; correction.

SUMMARY: On May 9, 2022, the Environmental Protection Agency (EPA) published a final rule in the Federal Register approving revisions to the Mojave Desert Air Quality Management District (MDAQMD), and Placer County Air Pollution Control District portions of the California State Implementation Plan (SIP). In that rulemaking, the EPA inadvertently included erroneous amendatory instructions codifying the replacement of the previously approved version of MDAQMD Rule 1115. This document corrects that error in the final rule's amendatory instructions.

DATES: This action is effective on June 8, 2022.

FOR FURTHER INFORMATION CONTACT: Kevin Gong, EPA Region IX, (415) 972-3073, gong.kevin@epa.gov.

SUPPLEMENTARY INFORMATION: In our final rule published May 9, 2022, the EPA inadvertently included errors in amendatory instructions that codified our deletion with replacement of the previously-approved version of MDAQMD Rule 1115, “Metal Parts and Products Coating Operations,” as amended on January 22, 2018, at 40 CFR 52.220(c)(518)(i)(A)(6). That paragraph of the California SIP already codifies a similar deletion with replacement for MDAQMD Rule 1114, “Wood Products Coating Operations.” This error correction corrects the amendatory instructions to codify the replacement of the previously-approved version of MDAQMD Rule 1115 in a new paragraph at (c)(518)(i)(A)(8).

In FR Doc. 2022-09726 appearing on page 27527 in the Federal Register of Monday, May 9, 2022, the following corrections are made:

§ 52.220 [Corrected]

1. On page 27527, at the top of the third column, instruction 2, “Section 52.220 is amended by adding paragraphs (c)(193)(i)(A)(4), (c)(419)(i)(B)(2), (c)(518)(i)(A)(6), and (c)(571) to read as follows:” is corrected to read as “2. Section 52.220 is amended by adding paragraphs (c)(193)(i)(A)(4), (c)(419)(i)(B)(2), (c)(518)(i)(A)(8), and (c)(571) to read as follows:”

2. On page 27527, at the bottom of the third column, in § 52.220, redesignate paragraph (c)(518)(i)(A)(6) as paragraph (c)(518)(i)(A)(8).

Dated: May 31, 2022.
Martha Guzman Aceves,
Regional Administrator, Region IX.

[FR Doc. 2022-12175 Filed 6-6-22; 8:45 am]

BILLING CODE 6560-50-P